ENVIRONMENTAL PROTECTION AGENCY

40 CFR Part 70

[CA065-Pt 70; FRL-7113-5]

Clean Air Act Full Approval of 34 Operating Permits Programs in California

AGENCY: Environmental Protection Agency (EPA).

ACTION: Final rule.

SUMMARY: EPA is taking final action to fully approve the operating permits programs submitted by the California Air Resources Board (CARB) on behalf of the following 34 air districts: Amador County Air Pollution Control District (APCD), Bay Area Air Quality Management District (AQMD), Butte County AQMD, Calaveras County APCD, Colusa County APCD, El Dorado County APCD, Feather River AQMD, Glenn County APCD, Great Basin Unified APCD, Imperial County APCD, Kern County APCD, Lake County AQMD, Lassen County APCD, Mariposa County APCD, Mendocino County APCD, Modoc County APCD, Mojave Desert AQMD, Monterey Bay Unified APCD, North Coast Unified AQMD, Northern Sierra AQMD, Northern Sonoma County APCD, Placer County APCD, Sacramento Metro AQMD, San Diego County APCD, San Joaquin Valley Unified APCD, San Luis Obispo County APCD, Santa Barbara County APCD, Shasta County APCD, Siskiyou County APCD, South Coast AQMD, Tehama County APCD, Tuolumne County APCD, Ventura County APCD, and Yolo-Solano AQMD. These programs were submitted in response to the directive in the 1990 Clean Air Act (CAA) Amendments that permitting authorities develop, and submit to EPA, programs for issuing operating permits to all major stationary sources and to certain other sources within the permitting authorities' jurisdiction. On the dates listed in Table 1 below, EPA granted interim approval to the 34 operating permits programs. All 34 air districts revised their programs to satisfy the conditions of the interim approval, and EPA proposed full approval in the Federal Register on the dates listed in Table 1. EPA received comments from several commenters on our proposed actions. After carefully reviewing and considering the issues raised by the commenters, EPA is taking final action to fully approve all 34 operating permits programs. EPA published 11 separate proposals to approve the 34 districts' title V operating permits programs. Today we are consolidating our final actions on those proposals into one final rule.

EFFECTIVE DATE: This rule is effective on November 30, 2001.

ADDRESSES: Copies of the 34 submittals and other supporting information used in developing these final full approvals are available for inspection during normal business hours at the following location: U.S. Environmental Protection Agency, Region 9, 75 Hawthorne Street, San Francisco, California 94105.

FOR FURTHER INFORMATION CONTACT: Gerardo Rios, EPA Region 9, at 415-972-3974 or rios.gerardo@epa.gov.

SUPPLEMENTARY INFORMATION: This section contains additional information about our final rulemaking, organized as follows:

I. Background on the 34 operating permits programs.

II. Comments received by EPA on our proposed rulemakings and EPA's responses.

A. Comments received by EPA that apply to some or all of the 34 districts.

B. Comments received by EPA that are specific to Bay Area Air Quality Management District.

1. Comments from Communities for a Better Environment.

2. Comments from Our Children's Earth

3. Comments from Commonweal

III. EPA's final action.

IV. Effective date of EPA's full approval of the 34 operating permits programs.

V. What is the scope of EPA's full approval?

VI. Citizen comments on operating permits programs

I. Background on the 34 Operating Permits Programs

The Clean Air Act (CAA) Amendments of 1990 required all state and local permitting authorities to develop operating permits programs that meet certain federal criteria. The 34 California operating permits programs were submitted in response to this directive. Because the programs substantially, but not fully, met the requirements of part 70, EPA granted interim approval to the programs. The interim approval notices described the conditions that had to be met in order for the 34 programs to receive full approval. After the 34 air districts revised their programs to address the conditions of the interim approval, EPA promulgated proposals to fully approve these title V operating permits programs. Table 1 lists the dates and Federal Register citations for EPA's actions finalizing interim approval and proposing full approval of the 34 operating permits programs.

Table 1.—Federal Register Citations and Program Submittal Dates for the 34 Operating Permits Programs
District | Interim Approval Federal Register Citation | Date of Revised Program Submittals | Proposed Full Approval Federal Register Citation
Amador County APCD | 60 FR 21720; 5/3/95 | 4/10/01 | 66 FR 53354; 10/22/01
Bay Area AQMD | 60 FR 32606; 6/23/95 | 5/30/01 | 66 FR 53104; 10/19/01
Butte County AQMD | 60 FR 21720; 5/3/95 | 5/17/01 | 66 FR 53354; 10/22/01
Calaveras County APCD | 60 FR 21720; 5/3/95 | 7/27/01 | 66 FR 53354; 10/22/01
Colusa County APCD | 60 FR 21720; 5/3/95 | 8/22/01 and 10/10/01 | 66 FR 53354; 10/22/01
El Dorado County APCD | 60 FR 21720; 5/3/95 | 8/16/01 | 66 FR 53354; 10/22/01
Feather River AQMD | 60 FR 21720; 5/3/95 | 5/22/01 | 66 FR 53354; 10/22/01
Glenn County APCD | 60 FR 36065; 7/13/95 | 9/13/01 | 66 FR 53354; 10/22/01
Great Basin Unified APCD | 60 FR 21720; 5/3/95 | 5/18/01 | 66 FR 53354; 10/22/01
Imperial County APCD | 60 FR 21720; 5/3/95 | 8/2/01 | 66 FR 53354; 10/22/01
Kern County APCD | 60 FR 21720; 5/3/95 | 5/24/01 | 66 FR 53354; 10/22/01
Lake County AQMD | 60 FR 36065; 7/13/95 | 6/1/01 | 66 FR 53354; 10/22/01
Lassen County APCD | 60 FR 21720; 5/3/95 | 8/2/01 | 66 FR 53354; 10/22/01
Mariposa County APCD | 60 FR 62758; 12/7/95 | 9/20/01 | 66 FR 53354; 10/22/01
Mendocino County APCD | 60 FR 21720; 5/3/95 | 4/13/01 | 66 FR 53354; 10/22/01
Modoc County APCD | 60 FR 21720; 5/3/95 | 9/12/01 | 66 FR 53354; 10/22/01
Mojave Desert AQMD | 61 FR 4217; 2/5/96 | 7/11/01 and 6/4/01 | 66 FR 53163 10/19/01
Monterey Bay Unified APCD | 60 FR 52332; 10/6/95 | 5/9/01 | 66 FR 53178; 10/19/01
North Coast Unified AQMD | 60 FR 21720; 5/3/95 | 5/24/01 | 66 FR 53354; 10/22/01
Northern Sierra AQMD | 60 FR 21720; 5/3/95 | 5/24/01 | 66 FR 53354; 10/22/01
Northern Sonoma County APCD | 60 FR 21720; 5/3/95 | 5/21/01 | 66 FR 53354; 10/22/01
Placer County APCD | 60 FR 21720; 5/3/95 | 5/4/01 | 66 FR 53354; 10/22/01
Sacramento Metro AQMD | 60 FR 39862; 8/4/95 | 6/1/01 | 66 FR 53167; 10/19/01
San Diego County APCD | 60 FR 62753; 12/7/95 | 6/4/01 | 66 FR 53148; 10/19/01
San Joaquin Valley Unified APCD | 61 FR 18083; 4/24/96 | 6/29/01 | 66 FR 53151; 10/19/01
San Luis Obispo County APCD | 60 FR 21720; 5/3/95 | 5/18/01 | 66 FR 53159; 10/19/01
Santa Barbara County APCD | 60 FR 55460; 11/1/95 | 4/5/01 | 66 FR 53155; 10/19/01
Shasta County APCD | 60 FR 36065; 7/13/95 | 5/18/01 | 66 FR 53354; 10/22/01
Siskiyou County APCD | 60 FR 21720; 5/3/95 | 9/28/01 | 66 FR 53354; 10/22/01
South Coast AQMD | 61 FR 45330; 8/29/96 | 8/2/01 | 66 FR 53170; 10/19/01
Tehama County APCD | 60 FR 36065; 7/13/95 | 6/4/01 | 66 FR 53354; 10/22/01
Tuolumne County APCD | 60 FR 21720; 5/3/95 | 7/18/01 | 66 FR 53354; 10/22/01
Ventura County APCD | 60 FR 55460; 11/1/95 | 5/21/01 | 66 FR 53174; 10/19/01
Yolo-Solano AQMD | 60 FR 21720; 5/3/95 | 5/9/01 | 66 FR 53354; 10/22/01

II. Comments Received by EPA on Our Proposed Rulemakings and EPA's Responses

We received several comment letters on EPA's proposed approval of the title V operating permits programs in California. Four comment letters applied to some or all of the 34 districts in California; a summary of these comments and our response are included in section II.A, below. Three other comment letters were directed specifically at our proposed approval of the Bay Area AQMD's operating permits program; a summary of the comments specific to Bay Area AQMD and our responses are included in section II.B below.

A. Comments Received by EPA That Apply to Some or All of the 34 Districts

We received four comment letters that specifically address the EPA's proposed approach of granting full program approval to the California districts' title V operating permits programs while deferring the permitting of agricultural operations involved in the growing of crops or the raising of fowl or animals for a brief period, not to exceed three years. We received comments objecting to our proposed approach on this issue from two coalitions of environmental groups and comments supporting our approach from a coalition of agricultural industry representatives and from the California Air Resources Board (CARB).¹

¹ We also received a comment objecting to our proposal on this matter as it relates to the Bay Area AQMD operating permits program. See section II.B, below.

The adverse comments we received from the environmental groups oppose EPA's proposed approach on both legal and technical grounds. The groups' comments assert that since the repeal of the statewide agricultural permitting exemption was a condition established by EPA for full title V program approval and the exemption is still in place, EPA cannot grant full approval to the California districts' operating permits programs. Moreover, they argue that the three-year deferral represents an inappropriate continuation of interim approval. In addition, they comment that EPA cannot exempt any major sources from title V permitting under the Act.

Their comments also question EPA's assertion that there is not a complete inventory of emissions associated with agricultural operations in California and maintain that there are reliable methodologies to determine emissions from certain animal feeding operations (e.g., dairies). The groups' comments also dispute the need for additional research on emissions from agricultural sources prior to implementing title V permitting of these sources and cite the results of San Joaquin Air District and CARB reports regarding the impact of agricultural pollution sources on air quality in the San Joaquin Valley. Finally, the groups request that EPA disapprove the California districts' title V operating permits programs, although they express support for EPA delegating part 71 to the local permitting authorities for all sources not subject to the agricultural exemption, if the Agency were to disapprove the districts' part 70 programs.

Comments received from the coalition of agricultural industry associations support EPA's proposed approval of the San Joaquin Valley Unified APCD's title V program as well as EPA's proposal to defer title V permitting of in-field agricultural operations for three years for all California air districts. The groups' comments confirm that reliable data and a complete inventory of emissions associated with production agricultural operations are not currently available and commit the California agricultural industry to participating in research efforts to better determine emission levels associated with in-field activities. CARB's comments also support EPA's proposal to grant full approval to all of the local title V programs in the State and to defer the permitting of State-exempted agricultural sources for a three-year period. CARB maintains that local districts have corrected all of the interim title V program deficiencies within their authority. CARB also reiterates the position conveyed in their September 19, 2001 letter to Jack Broadbent, Region 9 Air Director, that emissions from much of the equipment used in the pre-harvest activities exempted by State law cannot be included in title V applicability determinations, and that the potential to emit of California's exempt agricultural equipment is likely to be below title V major source thresholds.

EPA considered the comments raised in response to our proposed approval, and has decided to grant full approval to the title V operating permits programs in the State and to defer permitting of the limited category of State-exempt agricultural sources for a period of no more than three years. This approach will allow EPA and the State to evaluate the existing science, improve on assessment tools, collect and analyze additional data, remove any remaining legal obstacles, and issue any necessary guidance on implementation of the title V operating permits program for major agricultural stationary sources. At the same time, this approach will not impede local permitting authorities from issuing all of their initial round of title V permits as expeditiously as possible.

During the interim deferral period, EPA will continue to work with the agricultural industry and our state and federal regulatory partners to pursue, wherever possible, emission reduction strategies. At the end of this period, EPA will, taking into consideration the additional data gathered during the deferral, make a determination as to how the title V operating permits program will be implemented for any major agricultural stationary sources in the State.

B. Comments received by EPA That Are Specific to Bay Area Air Quality Management District

In addition to the comments discussed in II.A above that apply to all programs in California, EPA received several comment letters specific to our proposed full approval of the operating permits program for the Bay Area Air Quality Management District (“Bay Area,” “District” or “BAAQMD”). These comments were received by EPA on November 19, 2001 from three organizations: Communities for a Better Environment (“CBE”); the Golden Gate University Environmental Law and Justice Clinic, acting on behalf of Our Children's Earth (“OCE”); and a Bay Area environmental organization called Commonweal. The following is a summary of the comments—and our responses—related to our proposed full approval of the Bay Area Air Quality Management District operating permits program.

1. Comments from Communities for a Better Environment

The CBE comments addressed our proposed approval of the District's revision of its definition of potential to emit (“PTE”) at 2-6-218. We had proposed to approve this revised definition which allows a permit limitation, or the effect it would have on emissions, to be “enforceable by the District or EPA.” The phrase, “enforceable by the District or EPA” replaced the term, “federally enforceable.”

CBE stated that EPA should reject BAAQMD's revision to the definition of potential to emit at 2-6-218, or in the alternative, find the revision deficient and order BAAQMD to revise the definition. CBE stated that the proposed change to 2-6-218 is illegal because the rule change expands the definition of potential to emit beyond the bounds of the federal case law and EPA guidance on the subject. They assert that our position—that the new District definition of potential to emit is consistent with the new meaning under federal law as defined by the courts—is simply wrong. They claim that the phrase, “enforceable by the District or EPA” is vague, much broader than the current case law, and not defined anywhere in the District rule. CBE stated that it makes no sense to define “federally enforceable” in Rule 2-6-207 and then use a different phrase in the definition of potential to emit. CBE also discussed how the Manual of Procedures (“MOP”), without expressly saying so, appears to define the phrase, “enforceable by the district” as “a district or state requirement that has not been approved for inclusion in the SIP by EPA is not federally enforceable but can limit potential to emit for the purposes of major facility review.” (MOP at page 3-2). CBE stated that if this is how the District intends to define the phrase, then it is much broader than what the courts allowed (see Clean Air Implementation Project v. EPA No. 96-1224 (D.C. Cir. June 28, 1996)). CBE also was opposed to our proposed action on this matter in which we rely on the District to implement its new definition of PTE to be consistent with federal case law. They said it is improper for us to approve the “vague and overly broad rule” and rely on our enforcement discretion as a means to correct any misapplication of the definition.

Finally, CBE stated that the definition of federally enforceable in the NSR rule is not consistent with the definition in the part 70 program and this would cause confusion, misinterpretation, and ambiguity surrounding enforcement actions. In particular, CBE is concerned that previous NSR actions where federally enforceable limits on the source's PTE were created under the NSR definition of PTE, could be altered under title V using “the expanded definition” to allow sources to no longer have limits on potential to emit that are federally enforceable.

EPA Response to CBE Comments: The comments made by CBE do not alter our position and today's final action approves the definition of potential to emit at District rule 2-6-218 (amended by BAAQMD on May 17, 2001). We hold to our proposed position in today's final action because the District's definition is consistent with federal case law and EPA policies. CBE is concerned that the phrase, “enforceable by the District or EPA,” which replaced, “federally enforceable,” is not consistent with the federal case law and EPA policies. Although the definition does not include the clarifying phrase that the state and local limits shall be, “legally and practicably enforceable” (See Clean Air Act Implementation v. EPA No. 96-1224 (D.C. Cir. June 28, 1996)), EPA does not believe that this phrase must be included before we can approve the definition in a part 70 rule. In our proposed rulemaking for Bay Area, we notified the BAAQMD of the practicable enforceability criteria and of our expectations as they implement the definition. Furthermore, the requirement that a limitation be “effective” or “practically enforceable” is inherent in any PTE limit.

In general, we agree with CBE that there could be ambiguity about the interpretation of the definition of potential to emit if it is defined differently under NSR compared to Part 70. While these differences may exist, the NSR rule is independent from the part 70 program and, therefore, a different definition of PTE in the NSR rule does not necessarily affect our ability to approve the District's definition of PTE for part 70 purposes. In response to CBE's concerns that sources would argue that certain limits on their PTE obtained during an earlier NSR action would no longer need to be federally enforceable under part 70, such arguments would not be valid because the District's NSR rules are SIP-approved and all terms and conditions of permits issued pursuant to the SIP-approved rules are federally enforceable applicable requirements for part 70 purposes.

2. Comments From Our Children's Earth

OCE provided comments on four interim approval issues, five program implementation issues, and several other changes the Bay Area had made to its rules which were not required to correct interim approval issues. We find that the five comments made by OCE on possible program implementation issues, are not related to Bay Area rule changes and are, therefore, outside the scope of today's rulemaking. (See OCE comments B.2, B.3, B.4, B.5, and B.6). Our proposal was limited to specific rule changes the district has made to its operating permits rule or program since interim approval was granted. The changes that we had identified in our proposal were made by Bay Area to either correct interim approval issues that we had earlier identified or to clarify the rule. The following are the comments that are within the scope of the rulemaking; our response follows each comment.

Issue #1—Insignificant Activities: OCE objected to our proposed approval because Bay Area did not provide a basis for defining significant source as those emission units with Hazardous Air Pollutant (HAP) emissions above 400 pounds.

EPA Response: The Bay Area established as “significant source” any emission unit that has a potential to emit of more than 2 tons per year of any regulated air pollutant or more than 400 pounds per year of any HAP. (See BAAQMD rule 2-6-238). Although the District has not provided a detailed determination of how they established this level, the emission levels for HAPs are well within the guidance EPA provided to California agencies on this matter. (See letter to Mike Tollstrup, CARB, from Gerardo Rios, EPA Region IX, dated February 22, 2001). This guidance originated from EPA's own title V permitting regulations at 40 CFR 71.5(c)(11)(ii)(B) in which we state that, “potential to emit of any HAP from any single emission unit shall not exceed 1,000 pounds per year * * *” Therefore, for this reason and the reasons described in our proposed approval action, EPA finds that the District has corrected the interim approval issue #1 and approves the District's definition of significant source.

Issue 11—Emissions Trading: OCE asserted that the District does not appear to have an emissions trading scheme in place to allow for emissions trading for Title V facilities. They said that the inclusion of emissions trading procedures into the Title V program is inappropriate unless there are rules in place to implement emissions trading. Until this deficiency is remedied, they asked that full approval of the District's title V program be denied.

EPA Response: While we agree with the commenter that the District does not appear to have a SIP-approved rule to allow for emissions trading at title V sources, EPA does not agree that such provisions be in place before the District can adopt, and EPA can approve, part 70 program changes that would allow such trading consistent with 40 CFR 70.6(a)(10) once the applicable requirement allows for it. 40 CFR 70.6(a)(10) requires the part 70 permit contain “terms and conditions, if the permit applicant requests them, for the trading of emissions * * * to the extent that the applicable requirements provide for trading such increases and decreases * * *” [emphasis added]. Even if a permitting authority does not have applicable requirements (e.g., a SIP) that provide for such trading, it can still have provisions in its part 70 program to allow for such trading.

Issue #16—Regulated Air Pollutant: OCE was concerned about our approval of the definition of Regulated Air Pollutant at section 2-6-222.3 which includes, “[a]ny Class I or Class II ozone depleting substance subject to a standard promulgated under Title VI of the Clean Air Act.” OCE felt that this definition is inconsistent with 40 CFR 70.2(4) which only states that “[a]ny Class I or Class II subject to a standard promulgated under or established by title VI of the Act.” OCE felt that by specifying “ozone depleting substance” in its regulations, the District may unnecessarily be narrowing the definition of a Class I or Class II substance. Therefore, they stated, the phrase ‘ozone depleting substance’ should be deleted from Regulation 2-6-222.3 to parallel the definition in 40 CFR 70.2(4). Further, OCE requested that Regulation 2-6-222.5 be amended to include the expanded language in 40 CFR 70.2(5) since the federal regulations set out a more specific explanation of regulated air pollutants. In the very least, they requested that EPA require the District to reference 40 CFR 70.2(5) in Regulation 2-6-222.5 before granting full program approval.

EPA Response: EPA disagrees with the commenter. We do not believe that the District's definition conflicts with Part 70's definition of regulated air pollutant; rather, we find it is redundant with the definition since Class I or Class II substances can reasonably be called, “ozone depleting substances.” A Class I substance is a substance that, “the Administrator finds causes or contributes significantly to harmful effects on the stratospheric ozone layer.” A Class II substance is, “any other substances that the Administrator finds is known or may reasonably be anticipated to cause or contribute to harmful effects on the stratospheric ozone layer.” (See CAA section 602(a) and (b), respectively). Further, we disagree with OCE's comment that we should require the District to include a more complete reference of regulated pollutant at 40 CFR 70.2(5). In our interim approval notice we required that the District add the references to section 112 provisions because this was the only aspect of the definition that we found to be deficient. The District has made the required correction.

Issue #17—Agricultural Exemption: OCE commented that the District's Title V program is inadequate and should be denied because the California Legislature has failed to amend the Health and Safety Code to remove the agricultural exemption. OCE was concerned with EPA's proposal to grant the District full approval while agricultural sources remain exempt from the Title V program and stated that EPA cannot grant full approval to the District while allowing the deferral of Title V permitting of agricultural operations.

EPA Response to OCE Comment #4: Although this comment is specific to Bay Area, it is a statewide issue. Our response to this comment is provided in section II.A, above.

Comments received from OCE on non-interim approval rule changes: The following comments were made by OCE on our proposal to approve other rule changes made by Bay Area that were not required to correct interim approval deficiencies. We find that these comments are within the scope of the rulemaking and our response to these comments follow.

OCE Comment #5: Rule 2-6-113 (Exemption, Registered Portable Engines)—OCE expressed concern that the District exempts registered portable engines from its Title V program purportedly because the District does not regulate them.

EPA Response to OCE Comment #5: Rule 2-6-113 is not a provision that we proposed to approve (see table 2 in our proposed full approval dated October 19, 2001, 66 FR 53140), and therefore the comment is outside the scope of today's final rulemaking. Since the provision at 2-6-113 is not included in our final action, the provision does not exist in the federally approved part 70 program for Bay Area. Thus, the exemption for portable equipment at 2-6-113 is not available to sources in the Bay Area under the federally approved part 70 program.

OCE Comment #6: Rule 2-6-201 (Administrative Permit Amendment)—This provision defines “administrative permit amendment” and lists the changes at a title V source that can be considered for administrative permit amendment procedures. To correct an interim approval issue (see issue #6 in the proposed rulemaking) with this definition, Bay Area eliminated the phrase, “but not necessarily limited to” from the sentence introducing the list of what can be considered an administrative permit amendment. OCE commented that the definition still suffers from lack of clarity because it still uses the word “include” to introduce the list of what can be an administrative permit amendment. Further, they asked that the phrase “or new” be eliminated because new monitoring requirements are significant permit modifications to which the public ought to be able to comment.

EPA Response to OCE Comment #6: EPA disagrees with OCE's comment that the definition of Administrative Permit Amendment is still unclear. The District's deletion of the language, “not necessarily limited to” in the current rule must be considered to mean that the District considers this list to be exhaustive. Therefore, EPA considers the list to be all that is allowed. Regarding the request that the term, “new or” be eliminated, EPA does not believe it is necessary because we view “new” monitoring at an existing source to mean increasing the frequency of the existing monitoring. Furthermore, any significant change in monitoring is required to undergo a significant permit revision as defined at 2-6-226.

OCE Comment #7: Definition of Potential to Emit—OCE objected to the District replacing the phrase, “federally enforceable” with the phrase, “enforceable by the District.” They stated that EPA has not yet made final decisions based on the recent court decisions, and they believed that EPA should await completion of its decision making process to review any proposed rules on potential to emit. In the alternative, they said that the phrase, “enforceable by the District or EPA” should be substituted with “federally enforceable or legally and practically enforceable by the District” consistent with EPA's guidance and comments in the proposed approval.

EPA Response to OCE Comment #7: EPA disagrees with the comment that the definition cannot be approved with the phrase, “enforceable by the District.” Further, we can approve the provision because the requirement that a limitation be “effective” or “practically enforceable” is inherent in any PTE limit. See also our response to the CBE comment above.

OCE Comment #8: Rule 2-6-231 (Synthetic Minor Operating Permit) means “a District operating permit that has been modified to include conditions imposing enforceable condition on a facility or source.” OCE stated that the rule should reference Rule 2-6-218 “potential to emit.” They felt that the title V program should not be approved without the clarification in this rule that exceedance of the synthetic minor limit voids the minor permit.

EPA's Response to OCE Comment #8: In light of the comments, we have re-considered our proposed action and find that EPA should defer final action on this provision. We are choosing to not take final action on this provision at this time and will complete our analysis and take appropriate action in the near future. For the time being, however, it is not part of the approved part 70 program for Bay Area.

OCE Comment #9: Rule 2-6-314 (Revocation): OCE stated that Part 70 requires a provision stating that the permittee must comply with all conditions of the Title V permit and that any noncompliance constitutes a violation of the Act and is grounds for enforcement action, and for permit termination and revocation, among other things. They stated that the Manual of Procedures makes clear that such a provision is part of a title V permit. However, OCE objected to EPA's proposed program approval to the extent that Rule 2-6-314 may be read to restrict any resources the citizen may have to enforce permit terms. In addition, they stated that the discretion to request the Hearing Board to hold a hearing should not reside solely with the Air Pollution Control Officer. They commented that any interested public member should be allowed to request the Hearing Board to hold a hearing to determine whether a major facility permit should be revoked.

EPA Response to OCE Comment #9: As the commenter acknowledges, BAAQMD's program is consistent with 70.6(a)(6)(i)'s requirements for permit content regarding non-compliance. The revocation procedures at 2-6-314 are a requirement of State law (see Health and Safety Code § 42307) and are not inconsistent with part 70 procedures, thus it is an approvable provision. In fact, part 70 does not require specific hearing board procedures for permitting agencies; therefore, the District can proceed in this way. Members of the public may avail themselves of federal remedies, including requesting revocation, under section 304 of the Clean Air Act.

OCE Comment #10: Rule 2-6-404 (Timely Application): OCE stated that there is no justification for extending the deadline for certain applications to October 20, 2000 and, for this reason, the program should not be approved.

EPA Response to OCE Comment #10: Rule 2-6-404.8 states that, “the initial application for a major facility review permit for a existing major facility with actual emissions lower than 50 tons per year of each regulated pollutant and 7 tons per year of any hazardous air pollutant shall be submitted by the applicant by October 20, 2000.” This provision was adopted by the District Board on October 19, 1999 and provided warning to sources whose emissions were less than those specified, but whose PTE exceeded major source levels, that and initial application was due in one year. EPA finds that this provision is approvable because it was more restrictive than EPA policy on the matter at this time.² EPA's policy allowed a source to temporarily establish a potential to emit limit based on actual emissions to avoid major source status under section 112 and title V of the Clean Air Act. EPA's transition policy expired on December 31, 2000, which was after the October 20, 2000 date established by the District in its rule for these type of sources to submit timely title V applications.

² See January 25, 1995 Memorandum from John Seitz, Director, OAQPS and Robert Van Heuvelen, Director, Office of Regulatory Enforcement, to various Regional EPA Air Program Directors, entitled, “Options for Limiting the Potential to Emit (PTE) of a Stationary Source Under section 112 and Title V of the Clean Air Act.” See also, Memorandum dated December 20, 1999 entitled, “Third Extension of January 25, 1995 Potential to Emit Transition Policy,” from John Seitz, Director, OAQPS and Eric Schaeffer, Director, Office of Regulatory Enforcement.

OCE Comment #11: Rule 2-6-409 (Permit Content): The testing, monitoring, reporting and recordkeeping section of the rule should contain the requirement in 40 CFR 70.6(a)(3)(i)(C) for the requirements, as necessary, concerning the use, maintenance and, where appropriate, installation of monitoring equipment. This requirement could be included in Rule 2-6-503.

EPA Response to Comment #11: District rule 2-6-409.2 requires that permits include “all applicable requirements for monitoring, recordkeeping and reporting, including applicable test methods and analysis procedures.” Furthermore, the District MOP at 4.6 includes a reference to numerous federal and local regulations that require monitoring (e.g., Federal New Source Performance Standards, etc.) and a statement that, “the requirements in the above regulations contain extensive instructions on monitoring procedures. They include details on the calibration of instruments, source testing for verification, number of data points per time period, averaging and statistical analysis. Such requirements will be included in the permit by reference.” EPA finds that the MOP at section 4.6, and the general requirement at 2-6-409.2, adequately satisfy the part 70 requirement cited by the commenter. Therefore, we are approving 2-6-409.2.

OCE Comment #12: Rule 2-6-415 (Reopening for Cause): OCE objected to EPA's proposed program approval to the extent that Rule 2-6-314 may be read to restrict any resources the citizen may have to request revocation of permits. They stated that, consistent with the right provided to the public to enforce the terms of Title V permits and consistent with 40 CFR 70.6(a)(6)(i), any interested public member should be allowed to seek the remedy of revocation.

EPA Response to OCE Comment #12: We disagree with the comment. Part 70 does not require specific hearing board procedures to allow citizens to reopen or revoke a permit, but the Clean Air Act allows members of the public to sue to enforce permit requirements and to request appropriate relief from a court. See also our response to comment #9, above.

3. Comments From Commonweal

Commonweal raised concerns regarding provision 2-6-314, “Revocation” which states, “the Air Pollution Control Officer (APCO) may request the Hearing Board to hold a hearing to determine whether a major facility permit should be revoked if it is found that the holder of the permit is violating any provision in the permit or any applicable permit.” Commonweal commented that this provision needs more specificity concerning when the APCO requests a hearing. Commonweal also stated it is necessary to require that the APCO “must” request the Hearing Board to hold a hearing about whether a permit should be revoked when a consistent pattern of permit violations has occurred. Commonweal provided two slightly different options for what they would like to the revocation language to state.

EPA's Response to Commonweal's Comment: EPA does not agree that the provision at 2-6-314 needs to be modified before it can be approved as part of the Bay Area's part 70 permitting program. Part 70 does not require that the APCO request a public hearing to determine if a permit should be revoked. The permit revocation procedure described in 2-6-314, including all District Hearing Board proceedings, is an attribute of California State Law and is not inconsistent with any provision in Part 70 (see California Health and Safety Code § 42307). In general, part 70 requires that all permit proceedings undergo adequate public notice requirements including “offering an opportunity for public comment and a hearing on the draft permit.” (See § 70.7(h)). Also, part 70 describes the procedures that must be followed if “the Administrator or the permitting authority determines that the permit must be revised or revoked to assure compliance with the applicable requirements.” (See § 70.7(f)(1)(iv)).

III. EPA's Final Action

EPA is granting full approval to the 34 operating permits programs submitted by CARB based on the revisions submitted by the 34 districts, which satisfactorily address the program deficiencies identified in EPA's interim approvals for these districts. In addition, EPA is approving, as title V operating permits program revisions, other changes made by some districts that are unrelated to the changes required by EPA for full program approval. EPA is not taking action on certain other changes made by some districts that are also unrelated to the changes required by EPA for full program approval. For detailed descriptions of these changes and the basis for EPA's actions, readers should refer to the Federal Register notices published on October 19, 2001 and October 22, 2001 (see Table 1 above for Federal Register citations), in which EPA proposed full approval of the 34 operating permit programs, as well as the Technical Support Documents associated with those proposals.

Today EPA is also approving, as part of their revised operating permits programs, changes to the definition of potential to emit (PTE) made by Kern County APCD (KCAPCD) and Amador County APCD (ACAPCD). Both districts had revised the PTE definition in their local rules such that the requirement to count fugitives towards the major source threshold was inconsistent with the requirement in the definition of major source in 40 CFR Part 70, and was therefore not approvable. However, when EPA proposed to fully approve the KCAPCD and ACAPCD operating permits programs, on October 22, 2001 (66 FR 53354), the Agency proposed to approve the KCAPCD and ACAPCD definitions of potential to emit provided that EPA finalized revisions to the part 70 rule that would make the revised PTE definitions of KCAPCD and ACAPCD approvable. EPA promulgated a final rule on November 27, 2001 (66 FR 59161) that revised the definition of major source in part 70; the KCAPCD and ACAPCD definitions are now consistent with part 70 and EPA is approving them as part of these districts' revised title V programs.

Finally, for the Bay Area Air Quality Management District's operating permits program, our full approval includes all provisions except for:

—Provisions identified in table 2 from our proposed FR notice dated October 19, 2001. (66 FR 53140); and

—the definition of Synthetic Minor Operating Permit. Section 2-6-231.

IV. Effective Date of EPA's Full Approval of the 34 Operating Permits Programs

EPA is using the good cause exception under the Administrative Procedure Act (APA) to make the full approval of the 34 districts' programs effective on November 30, 2001. In relevant part, the APA provides that publication of “a substantive rule shall be made not less than 30 days before its effective date, except— * * * (3) as otherwise provided by the agency for good cause found and published with the rule.” 5 U.S.C. 553(d)(3). Section 553(b)(3)(B) of the APA provides that good cause may be supported by an agency determination that a delay in the effective date is impracticable, unnecessary, or contrary to the public interest. EPA finds that it is necessary and in the public interest to make this action effective sooner than 30 days following publication. In this case, EPA believes that it is in the public interest for the programs to take effect before December 1, 2001. EPA's interim approval of the 34 districts' programs expires on December 1, 2001. In the absence of this full approval of 34 districts' amended programs taking effect on November 30, the federal program under 40 CFR part 71 would automatically take effect in the 34 districts and would remain in place until the effective date of the fully-approved state program. EPA believes it is in the public interest for sources, the public and 34 districts to avoid any gap in coverage of the district programs, as such a gap could cause confusion regarding permitting obligations. Furthermore, a delay in the effective date is unnecessary because the 34 districts have been administering the title V permit program for approximately six years under interim approvals. Through this action, EPA is approving a few revisions to the existing and currently operational programs. The change from the interim approved programs which substantially met the part 70 requirements, to the fully approved programs is relatively minor, in particular if compared to the changes between a district-established and administered program and the federal program.

V. What Is the Scope of EPA's Full Approval?

In its program submission, the 34 districts did not assert jurisdiction over Indian country. To date, no tribal government in California has applied to EPA for approval to administer a title V program in Indian country within the state. EPA regulations at 40 CFR part 49 govern how eligible Indian tribes may be approved by EPA to implement a title V program on Indian reservations and in non-reservation areas over which the tribe has jurisdiction. EPA's part 71 regulations govern the issuance of federal operating permits in Indian country. EPA's authority to issue permits in Indian country was challenged in Michigan v. EPA, (D.C. Cir. No. 99-1151). On October 30, 2001, the court issued its decision in the case, vacating a provision that would have allowed EPA to treat areas over which EPA determines there is a question regarding the area's status as if it is Indian country, and remanding to EPA for further proceedings. EPA will respond to the court's remand and explain EPA's approach for further implementation of part 71 in Indian country in a future action.

VI. Citizen Comments on Operating Permits Programs

On May 22, 2000, EPA promulgated a rulemaking that extended the interim approval period of 86 operating permits programs until December 1, 2001. (65 FR 32035) The action was subsequently challenged by the Sierra Club and the New York Public Interest Research Group (NYPIRG). In settling the litigation, EPA agreed to publish a notice in the Federal Register that would alert the public that they may identify and bring to EPA's attention alleged programmatic and/or implementation deficiencies in title V programs and that EPA would respond to their allegations within specified time periods if the comments were made within 90 days of publication of the Federal Register notice.

One member of the public commented on what he believes to be deficiencies with respect to the California title V programs. As stated in the Federal Register notices published on October 19, 2001 and October 22, 2001 proposing to fully approve the 34 operating permits programs, EPA takes no action on those comments in today's action. Rather, EPA will respond by December 14, 2001 to timely public comments on programs that have obtained interim approval, and by April 1, 2002 to timely comments on fully approved programs. We will publish a notice of deficiency (NOD) when we determine that a deficiency exists, or we will notify the commenter in writing to explain our reasons for not making a finding of deficiency. In addition, we will publish a notice of availability in the Federal Register notifying the public that we have responded in writing to these comments and how the public may obtain a copy of our response. A NOD will not necessarily be limited to deficiencies identified by citizens and may include any deficiencies that we have identified through our program oversight. Furthermore, in the future, EPA may issue an additional NOD if EPA or a citizen identifies other deficiencies.

Administrative Requirements

Under Executive Order 12866, “Regulatory Planning and Review” (58 FR 51735, October 4, 1993), this final approval is not a “significant regulatory action” and therefore is not subject to review by the Office of Management and Budget. Under the Regulatory Flexibility Act (5 U.S.C. 601 et seq.) the Administrator certifies that this final approval will not have a significant economic impact on a substantial number of small entities because it merely approves state law as meeting federal requirements and imposes no additional requirements beyond those imposed by state law. This rule does not contain any unfunded mandates and does not significantly or uniquely affect small governments, as described in the Unfunded Mandates Reform Act of 1995 (Pub. L. 104-4) because it approves pre-existing requirements under state law and does not impose any additional enforceable duties beyond that required by state law. This rule also does not have tribal implications because it will not have a substantial direct effect on one or more Indian tribes, on the relationship between the Federal Government and Indian tribes, or on the distribution of power and responsibilities between the Federal Government and Indian tribes, as specified by Executive Order 13175, “Consultation and Coordination with Indian Tribal Governments” (65 FR 67249, November 9, 2000). This rule also does not have Federalism implications because it will not have substantial direct effects on the States, on the relationship between the national government and the States, or on the distribution of power and responsibilities among the various levels of government, as specified in Executive Order 13132, “Federalism” (64 FR 43255, August 10, 1999). This rule merely approves existing requirements under state law, and does not alter the relationship or the distribution of power and responsibilities between the State and the Federal government established in the Clean Air Act. This final approval also is not subject to Executive Order 13045, “Protection of Children from Environmental Health Risks and Safety Risks” (62 FR 19885, April 23, 1997) or Executive Order 13211, “Actions Concerning Regulations That Significantly Affect Energy Supply, Distribution, or Use” (66 FR 28355 (May 22, 2001), because it is not a significant regulatory action under Executive Order 12866. This action will not impose any collection of information subject to the provisions of the Paperwork Reduction Act, 44 U.S.C. 3501 et seq., other than those previously approved and assigned OMB control number 2060-0243. For additional information concerning these requirements, see 40 CFR part 70. An agency may not conduct or sponsor, and a person is not required to respond to, a collection of information unless it displays a currently valid OMB control number.

In reviewing State operating permit programs submitted pursuant to title V of the Clean Air Act, EPA will approve State programs provided that they meet the requirements of the Clean Air Act and EPA's regulations codified at 40 CFR part 70. In this context, in the absence of a prior existing requirement for the State to use voluntary consensus standards (VCS), EPA has no authority to disapprove a State operating permit program for failure to use VCS. It would thus be inconsistent with applicable law for EPA, when it reviews an operating permit program, to use VCS in place of a State program that otherwise satisfies the provisions of the Clean Air Act. Thus, the requirements of section 12(d) of the National Technology Transfer and Advancement Act of 1995 (15 U.S.C. 272 note) do not apply.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective on November 30, 2001.

Under section 307(b)(1) of the Clean Air Act, petitions for judicial review of this action must be filed in the United States Court of Appeals for the appropriate circuit by February 5, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 70

Environmental protection, Administrative practice and procedure, Air pollution control, Intergovernmental relations, Operating permits, Reporting and recordkeeping requirements.

Dated: November 29, 2001.
Wayne Nastri,
Regional Administrator, Region 9.

40 CFR part 70, chapter I, title 40 of the Code of Federal Regulations is amended as follows:

PART 70—[AMENDED]

1. The authority citation for part 70 continues to read as follows:

Authority: 42 U.S.C. 7401, et seq.

2. Appendix A to part 70 is amended by revising paragraphs (a) through (hh) under California to read as follows:

Appendix A to Part 70—Approval Status of State and Local Operating Permits Programs

* * * * *

California

* * * * *

(a) Amador County Air Pollution Control District (APCD):

(1) Complete submittal received on September 30, 1994; interim approval effective on June 2, 1995; interim approval expires December 1, 2001.

(2) Revisions were submitted on April 10, 2001. The rule amendments contained in the April 10, 2001 submittal adequately addressed the conditions of the interim approval effective on June 2, 1995. Amador County Air Pollution Control District is hereby granted final full approval effective on November 30, 2001.

(b) Bay Area Air Quality Management District (AQMD):

(1) Submitted on November 16, 1993, amended on October 27, 1994, and effective as an interim program on July 24, 1995. Revisions to interim program submitted on March 23, 1995, and effective on August 22, 1995, unless adverse or critical comments are received by July 24, 1995. Approval of interim program, including March 23, 1995, revisions, expires December 1, 2001.

(2) Revisions were submitted on May 30, 2001. The rule amendments contained in the May 30, 2001 submittal adequately addressed the conditions of the interim approval effective on July 24, 1995. Bay Area Air Quality Management District is hereby granted final full approval effective on November 30, 2001.

(c) Butte County APCD:

(1) Complete submittal received on December 16, 1993; interim approval effective on June 2, 1995; interim approval expires December 1, 2001.

(2) Revisions were submitted on May 17, 2001. The rule amendments contained in the May 17, 2001 submittal adequately addressed the conditions of the interim approval effective on June 2, 1995. Butte County APCD is hereby granted final full approval effective on November 30, 2001.

(d) Calaveras County APCD:

(1) Complete submittal received on October 31, 1994; interim approval effective on June 2, 1995; interim approval expires December 1, 2001.

(2) Revisions were submitted on July 27, 2001. The rule amendments contained in the July 27, 2001 submittal adequately addressed the conditions of the interim approval effective on June 2, 1995. Calaveras County APCD is hereby granted final full approval effective on November 30, 2001.

(e) Colusa County APCD:

(1) Complete submittal received on February 24, 1994; interim approval effective on June 2, 1995; interim approval expires December 1, 2001.

(2) Revisions were submitted on August 22, 2001 and October 10, 2001. The rule amendments contained in the August 22, 2001 and October 10, 2001 submittals adequately addressed the conditions of the interim approval effective on June 2, 1995. Colusa County APCD is hereby granted final full approval effective on November 30, 2001.

(f) El Dorado County APCD:

(1) Complete submittal received on November 16, 1993; interim approval effective on June 2, 1995; interim approval expires December 1, 2001.

(2) Revisions were submitted on August 16, 2001. The rule amendments contained in the August 16, 2001 submittals adequately addressed the conditions of the interim approval effective on June 2, 1995. El Dorado County APCD is hereby granted final full approval effective on November 30, 2001.

(g) Feather River AQMD:

(1) Complete submittal received on December 27, 1993; interim approval effective on June 2, 1995; interim approval expires December 1, 2001.

(2) Revisions were submitted on May 22, 2001. The rule amendments contained in the May 22, 2001 submittal adequately addressed the conditions of the interim approval effective on June 2, 1995. Feather River AQMD is hereby granted final full approval effective on November 30, 2001.

(h) Glenn County APCD:

(1) Complete submittal received on December 27, 1993; interim approval effective on August 14, 1995; interim approval expires December 1, 2001.

(2) Revisions were submitted on September 13, 2001. The rule amendments contained in the September 13, 2001 submittal adequately addressed the conditions of the interim approval effective on August 14, 1995. Glenn County APCD is hereby granted final full approval effective on November 30, 2001.

(i) Great Basin Unified APCD:

(1) Complete submittal received on January 12, 1994; interim approval effective on June 2, 1995; interim approval expires December 1, 2001.

(2) Revisions were submitted on May 18, 2001. The rule amendments contained in the May 18, 2001 submittal adequately addressed the conditions of the interim approval effective on June 2, 1995. Great Basin Unified APCD is hereby granted final full approval effective on November 30, 2001.

(j) Imperial County APCD:

(1) Complete submittal received on March 24, 1994; interim approval effective on June 2, 1995; interim approval expires December 1, 2001.

(2) Revisions were submitted on August 2, 2001. The rule amendments contained in the August 2, 2001 submittal adequately addressed the conditions of the interim approval effective on June 2, 1995. Imperial County APCD is hereby granted final full approval effective on November 30, 2001.

(k) Kern County APCD:

(1) Complete submittal received on November 16, 1993; interim approval effective on June 2, 1995; interim approval expires December 1, 2001.

(2) Revisions were submitted on May 24, 2001. The rule amendments contained in the May 24, 2001 submittal adequately addressed the conditions of the interim approval effective on June 2, 1995. Kern County APCD is hereby granted final full approval effective on November 30, 2001.

(l) Lake County AQMD:

(1) Complete submittal received on March 15, 1994; interim approval effective on August 14, 1995; interim approval expires December 1, 2001.

(2) Revisions were submitted on June 1, 2001. The rule amendments contained in the June 1, 2001 submittal adequately addressed the conditions of the interim approval effective on August 14, 1995. Lake County AQMD is hereby granted final full approval effective on November 30, 2001.

(m) Lassen County APCD:

(1) Complete submittal received on January 12, 1994; interim approval effective on June 2, 1995; interim approval expires December 1, 2001.

(2) Revisions were submitted on August 2, 2001. The rule amendments contained in the August 2, 2001 submittal adequately addressed the conditions of the interim approval effective on June 2, 1995. Lassen County APCD is hereby granted final full approval effective on November 30, 2001.

(n) Mariposa County APCD:

(1) Submitted on March 8, 1995; approval effective on February 5, 1996 unless adverse or critical comments are received by January 8, 1996. Interim approval expires on December 1, 2001.

(2) Revisions were submitted on September 20, 2001. The rule amendments contained in the September 20, 2001 submittal adequately addressed the conditions of the interim approval effective on February 5, 1996. Mariposa County APCD is hereby granted final full approval effective on November 30, 2001.

(o) Mendocino County APCD:

(1) Complete submittal received on December 27, 1993; interim approval effective on June 2, 1995; interim approval expires December 1, 2001.

(2) Revisions were submitted on April 13, 2001. The rule amendments contained in the April 13, 2001 submittal adequately addressed the conditions of the interim approval effective on June 2, 1995. Mendocino County APCD is hereby granted final full approval effective on November 30, 2001.

(p) Modoc County APCD:

(1) Complete submittal received on December 27, 1993; interim approval effective on June 2, 1995; interim approval expires December 1, 2001.

(2) Revisions were submitted on September 12, 2001. The rule amendments contained in the September 12, 2001 submittal adequately addressed the conditions of the interim approval effective on June 2, 1995. Modoc County APCD is hereby granted final full approval effective on November 30, 2001.

(q) Mojave Desert AQMD:

(1) Complete submittal received on March 10, 1995; interim approval effective on March 6, 1996; interim approval expires December 1, 2001.

(2) Revisions were submitted on June 4, 2001 and July 11, 2001. The rule amendments contained in the June 4, 2001 and July 11, 2001 submittals adequately addressed the conditions of the interim approval effective on March 6, 1995. Mojave Desert AQMD is hereby granted final full approval effective on November 30, 2001.

(r) Monterey Bay Unified Air Pollution Control District:

(1) Submitted on December 6, 1993, supplemented on February 2, 1994 and April 7, 1994, and revised by the submittal made on October 13, 1994; interim approval effective on November 6, 1995; interim approval expires December 1, 2001.

(2) Revisions were submitted on May 9, 2001. The rule amendments contained in the May 9, 2001 submittal adequately addressed the conditions of the interim approval effective on November 6, 1995. Monterey Bay Unified Air Pollution Control District is hereby granted final full approval effective on November 30, 2001.

(s) North Coast Unified AQMD:

(1) Complete submittal received on February 24, 1994; interim approval effective on June 2, 1995; interim approval expires December 1, 2001.

(2) Revisions were submitted on May 24, 2001. The rule amendments contained in the May 24, 2001 submittal adequately addressed the conditions of the interim approval effective on June 2, 1995. North Coast Unified AQMD is hereby granted final full approval effective on November 30, 2001.

(t) Northern Sierra AQMD:

(1) Complete submittal received on June 6, 1994; interim approval effective on June 2, 1995; interim approval expires December 1, 2001.

(2) Revisions were submitted on May 24, 2001. The rule amendments contained in the May 24, 2001 submittal adequately addressed the conditions of the interim approval effective on June 2, 1995. Northern Sierra AQMD is hereby granted final full approval effective on November 30, 2001.

(u) Northern Sonoma County APCD:

(1) Complete submittal received on January 12, 1994; interim approval effective on June 2, 1995; interim approval expires December 1, 2001.

(2) Revisions were submitted on May 21, 2001. The rule amendments contained in the May 21, 2001 submittal adequately addressed the conditions of the interim approval effective on June 2, 1995. Northern Sonoma APCD is hereby granted final full approval effective on November 30, 2001.

(v) Placer County APCD:

(1) Complete submittal received on December 27, 1993; interim approval effective on June 2, 1995; interim approval expires December 1, 2001.

(2) Revisions were submitted on May 4, 2001. The rule amendments contained in the May 4, 2001 submittal adequately addressed the conditions of the interim approval effective on June 2, 1995. Placer County APCD is hereby granted final full approval effective on November 30, 2001.

(w) The Sacramento Metropolitan Air Quality Management District:

(1) Complete submittal received on August 1, 1994; interim approval effective on September 5, 1995; interim approval expires December 1, 2001.

(2) Revisions were submitted on June 1, 2001. The rule amendments contained in the June 1, 2001 submittal adequately addressed the conditions of the interim approval effective on September 5, 1995. The Sacramento Metropolitan Air Quality Management District is hereby granted final full approval effective on November 30, 2001.

(x) San Diego County Air Pollution Control District:

(1) Submitted on April 22, 1994 and amended on April 4, 1995 and October 10, 1995; approval effective on February 5, 1996, unless adverse or critical comments are received by January 8, 1996. Interim approval expires on December 1, 2001.

(2) Revisions were submitted on June 4, 2001. The rule amendments contained in the June 4, 2001 submittal adequately addressed the conditions of the interim approval effective on February 5, 1996. The San Diego County Air Pollution Control District is hereby granted final full approval effective on November 30, 2001.

(y) San Joaquin Valley Unified APCD:

(1) Complete submittal received on July 5 and August 18, 1995; interim approval effective on May 24, 1996; interim approval expires May 25, 1998. Interim approval expires on December 1, 2001.

(2) Revisions were submitted on June 29, 2001. The rule amendments contained in the June 29, 2001 submittal adequately addressed the conditions of the interim approval effective on May 24, 1996. San Joaquin Valley Unified APCD is hereby granted final full approval effective on November 30, 2001.

(z) San Luis Obispo County APCD:

(1) Complete submittal received on November 16, 1995; interim approval effective on December 1, 1995; interim approval expires December 1, 2001.

(2) Revisions were submitted on May 18, 2001. The rule amendments contained in the May 18, 2001 submittal adequately addressed the conditions of the interim approval effective on December 1, 1995. San Luis Obispo County APCD is hereby granted final full approval effective on November 30, 2001.

(aa) Santa Barbara County APCD:

(1) Submitted on November 15, 1993, as amended March 2, 1994, August 8, 1994, December 8, 1994, June 15, 1995, and September 18, 1997; interim approval effective on December 1, 1995; interim approval expires on December 1, 2001.

(2) Revisions were submitted on April 5, 2001. The rule amendments contained in the April 5, 2001 submittal adequately addressed the conditions of the interim approval effective on December 1, 1995. Santa Barbara County APCD is hereby granted final full approval effective on November 30, 2001.

(bb) Shasta County AQMD:

(1) Complete submittal received on November 16, 1993; interim approval effective on August 14, 1995; interim approval expires December 1, 2001.

(2) Revisions were submitted on May 18, 2001. The rule amendments contained in the May 18, 2001 submittal adequately addressed the conditions of the interim approval effective on August 14, 1995. Shasta County AQMD is hereby granted final full approval effective on November 30, 2001.

(cc) Siskiyou County APCD:

(1) Complete submittal received on December 6, 1993; interim approval effective on June 2, 1995; interim approval expires December 1, 2001.

(2) Revisions were submitted on September 28, 2001. The rule amendments contained in the September 28, 2001 submittal adequately addressed the conditions of the interim approval effective on June 2, 1995. Siskiyou County APCD is hereby granted final full approval effective on November 30, 2001.

(dd) South Coast Air Quality Management District:

(1) Submitted on December 27, 1993 and amended on March 6, 1995, April 11, 1995, September 26, 1995, April 24, 1996, May 6, 1996, May 23, 1996, June 5, 1996 and July 29, 1996; approval effective on March 31, 1997. Interim approval expires on December 1, 2001.

(2) Revisions were submitted on August 2, 2001 and October 2, 2001. The rule amendments contained in the August 2, 2001 and October 2, 2001 submittals adequately addressed the conditions of the interim approval effective on March 31, 1997. South Coast AQMD is hereby granted final full approval effective on November 30, 2001.

(ee) Tehama County APCD:

(1) Complete submittal received on December 6, 1993; interim approval effective on August 14, 1995; interim approval expires December 1, 2001.

(2) Revisions were submitted on June 4, 2001. The rule amendments contained in the June 4, 2001 submittal adequately addressed the conditions of the interim approval effective on August 14, 1995. Tehama County APCD is hereby granted final full approval effective on November 30, 2001.

(ff) Tuolumne County APCD:

(1) Complete submittal received on November 16, 1993; interim approval effective on June 2, 1995; interim approval expires December 1, 2001.

(2) Revisions were submitted on July 18, 2001. The rule amendments contained in the July 18, 2001 submittal adequately addressed the conditions of the interim approval effective on June 2, 1995. Tuolumne County APCD is hereby granted final full approval effective on November 30, 2001.

(gg) Ventura County APCD:

(1) Submitted on November 16, 1993, as amended December 6, 1993; interim approval effective on December 1, 1995; interim approval expires December 1, 2001.

(2) Revisions were submitted on May 21, 2001. The rule amendments contained in the May 21, 2001 submittal adequately addressed the conditions of the interim approval effective on December 1, 1995. Ventura County APCD is hereby granted final full approval effective on November 30, 2001.

(hh) Yolo-Solano AQMD:

(1) Complete submittal received on October 14, 1994; interim approval effective on June 2, 1995; interim approval expires December 1, 2001.

(2) Revisions were submitted on May 9, 2001. The rule amendments contained in the May 9, 2001 submittal adequately addressed the conditions of the interim approval effective on June 2, 1995. Yolo-Solano AQMD is hereby granted final full approval effective on November 30, 2001.

* * * * *

[FR Doc. 01-30368 Filed 12-6-01; 8:45 am]

BILLING CODE 6560-50-P